DEPARTMENT OF ENERGY

Federal Energy Regulatory Commission

[Project No. 13333-001]

Public Utility District No. 1 of Klickitat County, Washington; Notice of Preliminary Permit Application Accepted for Filing and Soliciting Comments, Motions to Intervene, and Competing Applications

On May 1, 2012, the Public Utility District No. 1 of Klickitat County, Washington, filed an application for a preliminary permit, pursuant to section 4(f) of the Federal Power Act (FPA), proposing to study the feasibility of the JD Pool Pumped Storage Hydroelectric Project (project) to be located near Goldendale, Klickitat County, Washington, and Rufus, Sherman County, Oregon. The project would be partially located on land owned and operated by the U.S. Department of the Army Corps of Engineers. The sole purpose of a preliminary permit, if issued, is to grant the permit holder priority to file a license application during the permit term. A preliminary permit does not authorize the permit holder to perform any land-disturbing activities or otherwise enter upon lands or waters owned by others without the owners' express permission.

The proposed project would consist of the following new facilities: (1) A 270-foot-high, 8,610-foot-long earth embankment dam enclosing an upper reservoir; (2) an upper reservoir, with a surface area of 114 acres and a storage capacity of 14,010 acre-feet at a maximum surface elevation of 2,710 feet above mean sea level (msl); (3) a 295-foot-high, 5,870-foot-long earth embankment dam enclosing a lower reservoir; (4) a lower reservoir, with a surface area of 110 acres and a storage capacity of 21,440 acre-feet at a maximum surface elevation of 705 feet msl; (5) a 24-foot-diameter, 9,188-foot-long steel penstock; (6) an underground powerhouse with five 300-megawatt (MW) turbine units with a total installed capacity of 1,500 MW; (7) 5 miles of 500-kilovolt transmission line connecting to Bonneville Power Administration's existing John Day Substation; and (8) appurtenant facilities. The project would be a closed-loop system and would use water from the Columbia River for initial fill and make-up water. The estimated annual generation of the project would be 4,343 gigawatt-hours.

Applicant Contact: Mr. John Smith, General Manager, Public Utility District No. 1 of Klickitat County, 1313 S. Columbus Avenue, Goldendale, Washington 98620; phone: (509) 773-5891.

FERC Contact: Kelly Wolcott; phone: (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13333) in the docket number field to access the document. For assistance, contact FERC Online Support.

Dated: May 25, 2012.
Kimberly D. Bose,
Secretary.

[FR Doc. 2012-13277 Filed 5-31-12; 8:45 am]

BILLING CODE 6717-01-P